DEPARTMENT OF HOMELAND SECURITY

Coast Guard

33 CFR Part 165

[Docket No. USCG-2019-0116]

Safety Zone for Fireworks Displays; Upper Potomac River, Washington Channel, DC

AGENCY: Coast Guard, DHS.

ACTION: Notice of enforcement of regulations.

SUMMARY: The Coast Guard will enforce a temporary safety zone for two fireworks displays taking place over the Washington Channel, adjacent to The Wharf DC, Washington, DC; the first on March 2, 2019, (no alternate date) and the second on April 6, 2019, (with an alternate date on April 7, 2019). This action is necessary to ensure the safety of life on navigable waterways during these fireworks displays. Our regulation for recurring fireworks displays from January 12, 2019, through December 31, 2019 identifies the temporary safety zones for these fireworks display events. During the enforcement periods, persons and vessels are prohibited from entering the safety zone unless authorized by the Captain of the Port Maryland-National Capital Region or a designated representative.

DATES: The regulations in 33 CFR 165.T05-1011 will be enforced for the location specified in paragraph (a) of that section from 5:30 p.m. through 7 p.m. on March 2, 2019; from 8 p.m. through 9:30 p.m. on April 6, 2019, and if necessary due to inclement weather, from 8 p.m. through 9:30 p.m. on April 7, 2019.

FOR FURTHER INFORMATION CONTACT: If you have questions about this notice of enforcement, call or email Mr. Ron Houck, U.S. Coast Guard Sector Maryland-National Capital Region, Waterways Management Division; telephone 410-576-2674, email D05-DG-SectorMD-NCR-MarineEvents@uscg.mil.

SUPPLEMENTARY INFORMATION: The Coast Guard will enforce the temporary safety zone in 33 CFR 165.T05-1011 (84 FR 4333, Feb. 15, 2019) for a fireworks display from 5:30 p.m. through 7 p.m. on March 2, 2019. There is no alternate date for this fireworks display event. The Coast Guard will enforce the temporary safety zone in 33 CFR 165.T05-1011 for a fireworks display from 8 p.m. through 9:30 p.m. on April 6, 2019. If necessary due to inclement weather, the fireworks display event will be rescheduled and the safety zone will be enforced from 8 p.m. through 9:30 p.m. on April 7, 2019. These are the first and second of eight recurring fireworks displays held adjacent to The Wharf DC, Washington, DC, anticipated from January 12, 2019, through December 31, 2019. This action is being taken to provide for the safety of life on navigable waterways during the fireworks displays. Our regulation for this fireworks display, § 165.T05-1011, specifies the location of the regulated area for these temporary safety zones, which encompass portions of the Washington Channel, adjacent to The Wharf DC, Washington, DC. During the enforcement periods, as specified in § 165.T05-1011(c), persons and vessels may not enter the safety zones unless authorized by the Captain of the Port Sector Maryland-National Capital Region (COTP) or the COTP's designated representative. All vessels underway within the safety zones at the time they are activated are to depart the zones. The Coast Guard may be assisted by other federal, state, or local agencies in the enforcement of these safety zones.

This notice of enforcement is issued under authority of 33 CFR 165.T05-1011 and 5 U.S.C. 552 (a). In addition to this notice of enforcement in the Federal Register, the Coast Guard plans to provide notification of these enforcement periods via the Local Notice to Mariners and marine information broadcasts.

Dated: February 28, 2019.
Joseph B. Loring,
Captain, U.S. Coast Guard, Captain of the Port Maryland-National Capital Region.

[FR Doc. 2019-04015 Filed 3-5-19; 8:45 am]

BILLING CODE 9110-04-P